DEPARTMENT OF LABOR

Employment and Training Administration

[TA-W-38,087]

Imaging Technologies, Inc., Cookeville, TN; Notice of Termination of Investigation

Pursuant to section 221 of the Trade Act of 1974, an investigation was initiated on September 18, 2000, in response to a petition filed on behalf of workers at Imaging Technologies Inc., Cookeville, Tennessee.

The petitioner has requested that the petition be withdrawn. Consequently, further investigation in this case would serve no purpose, and the investigation has been terminated.

Signed at Washington, DC, this 26th day of September, 2000.
Edward A. Tomchick,
Director, Division of Trade Adjustment Assistance.

[FR Doc. 00-26726 Filed 10-17-00; 8:45 am]

BILLING CODE 4510-30-M